DEPARTMENT OF HOMELAND SECURITY

[Docket No. DHS-2014-0059]

The Critical Infrastructure Partnership Advisory Council

AGENCY: National Protection and Programs Directorate, DHS.

ACTION: Quarterly Critical Infrastructure Partnership Advisory Council membership update.

SUMMARY: The Department of Homeland Security (DHS) announced the establishment of the Critical Infrastructure Partnership Advisory Council (CIPAC) in a Federal Register Notice (71 FR 14930-14933) dated March 24, 2006, which identified the purpose of CIPAC, as well as its membership. This notice provides: (i) Quarterly CIPAC membership updates; (ii) instructions on how the public can obtain the CIPAC membership roster and other information on the council; and (iii) information on recently completed CIPAC meetings.

FOR FURTHER INFORMATION CONTACT: Renee Murphy, Designated Federal Officer, Critical Infrastructure Partnership Advisory Council, Sector Outreach and Programs Division, Office of Infrastructure Protection, National Protection and Programs Directorate, U.S. Department of Homeland Security, 245 Murray Lane, Mail Stop 0607, Arlington, VA 20598-0607; telephone: (703) 603-5083; email: CIPAC@dhs.gov.

Responsible DHS Official: Renee Murphy, Designated Federal Officer for the CIPAC.

SUPPLEMENTARY INFORMATION: Purpose and Activity: The CIPAC facilitates interaction between government officials and representatives of the community of owners and/or operators for each of the critical infrastructure sectors defined by Presidential Policy Directive (PPD) 21 and identified in National Infrastructure Protection Plan 2013: Partnering for Critical Infrastructure Security and Resilience. The scope of activities covered by the CIPAC includes: Planning; coordinating among government and critical infrastructure owner and operator partners; implementing security and resilience program initiatives; conducting operational activities related to critical infrastructure security and resilience measures, incident response, and recovery; reconstituting critical infrastructure assets and systems from both manmade and naturally occurring events; and sharing threat, vulnerability, risk mitigation, business continuity information, best practices, and lessons learned at the unclassified level and as necessary, the classified secret level with current clearance holders.

Organizational Structure: CIPAC members are organized into 16 critical infrastructure sectors. Each of these sectors has a Government Coordinating Council (GCC) whose membership includes: (i) A lead Federal agency that is defined as the Sector-Specific Agency; (ii) all relevant Federal, State, local, tribal, and/or territorial government agencies (or their representative bodies) whose mission interests also involve the scope of the CIPAC activities for that particular sector; and (iii) a Sector Coordinating Council (SCC) whose membership includes critical infrastructure owners and/or operators or their representative trade associations.

CIPAC Membership: CIPAC Membership may include:

(i) Critical Infrastructure (CI) owner and operator members of a DHS-recognized Sector Coordinating Council (SCC), including their representative trade associations or equivalent organization members of a SCC as determined by the SCC.

(ii) Federal, State, local, and tribal governmental entities comprising the members of the GCC for each sector, including their representative organizations; members of the State, Local, Tribal, and Territorial Government Coordinating Council; and representatives of other federal agencies with responsibility for CI activities.

CIPAC membership is organizational. Multiple individuals may participate in CIPAC activities on behalf of a member organization as long as member representatives are not federally registered lobbyists.

CIPAC Membership Roster and Council Information: The current roster of CIPAC members are published on the CIPAC Web site (http://www.dhs.gov/cipac) and is updated as the CIPAC membership changes. Members of the public may visit the CIPAC Web site at any time to view current CIPAC membership, as well as the current and historic lists of CIPAC meetings and agendas.

Dated: November 3, 2014.
Renee Murphy,
Designated Federal Officer for the CIPAC.

[FR Doc. 2014-27689 Filed 11-21-14; 8:45 am]

BILLING CODE P